DEPARTMENT OF ENERGY

Federal Energy Regulatory Commission

[Project No. 8315-017]

Eagle Creek Sartell Hydro, LLC; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 8315-017.

c. Date filed: February 28, 2023.

d. Applicant: Eagle Creek Sartell Hydro, LLC (Eagle Creek).

e. Name of Project: Sartell Hydroelectric Project.

f. Location: On the Mississippi River in Stearns and Benton Counties, Minnesota. No federal lands are located within the project boundary.

g. Filed Pursuant to: Federal Power Act 16 U.S.C. 791(a)-825(r).

h. Applicant Contact: David H. Fox, Senior Director, Regulatory Affairs, Eagle Creek Sartell Hydro, LLC, 7315 Wisconsin Avenue, Suite 1100W, Bethesda, Maryland 20814; phone: (201) 306-5616; David.Fox@eaglecreekre.com.

i. FERC Contact: Michael Davis at (202) 502-8339, Michael.Davis@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: April 29, 2023.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Sartell Hydroelectric Project (8315-017).

m. The application is not ready for environmental analysis at this time.

n. The Sartell Hydroelectric Project consists of the following existing facilities: (1) a 46-foot-high dam with four sections; (2) a powerhouse containing 11 generating units; (3) a radial Tainter-type gate section and bascule gate section; (4) a concrete non-overflow dam section; (5) an overflow spillway; (6) an earthen embankment; (7) a step-up transformer; and (8) a 715-foot-long transmission line. The reservoir encompasses approximately 2,350.5 acres with a gross storage capacity of 15,278.3 acre-feet at the reservoir surface elevation of 1,015 feet National Geodetic Vertical Datum 1929 (NGVD). The project has a combined total rated capacity of 8.95 megawatts.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the documents (P-8315). At this time, the Commission has suspended access to the Commission's Public Reference Room, due to the proclamation declaring a National Emergency concerning the Novel Coronavirus Disease (COVID-19), issued by the President on March 13, 2020. For assistance, contact FERC Online Support.

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Issue Deficiency Letter (if necessary)—May 2023

Request Additional Information (if necessary)—May 2023

Issue Scoping Document 1 for comments—November 2023

Issue Scoping Document 2 (if necessary)—February 2024

Final amendments to the application must be filed with the Commission no later than 30 days from the issuance date of the notice of ready for environmental analysis.

Dated: March 13, 2023.
Kimberly D. Bose,
Secretary.

[FR Doc. 2023-05537 Filed 3-17-23; 8:45 am]

BILLING CODE 6717-01-P